DEPARTMENT OF AGRICULTURE

Animal and Plant Health Inspection Service

[Docket No. APHIS-2024-0018]

Notice of Request for Extension of Approval of an Information Collection; Control and Eradication of African Swine Fever; Conditions for Payment of Indemnity Claims

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the payment of indemnity claims related to African swine fever.

DATES: We will consider all comments that we receive on or before August 5, 2024.

ADDRESSES: You may submit comments by either of the following methods:

• Federal eRulemaking Portal: Go to www.regulations.gov. Enter APHIS-2024-0018 in the Search field. Select the Documents tab, then select the Comment button in the list of documents.

• Postal Mail/Commercial Delivery: Send your comment to Docket No. APHIS-2024-0018, Regulatory Analysis and Development, PPD, APHIS, Station 3A-03.8, 4700 River Road, Unit 118, Riverdale, MD 20737-1238.

Supporting documents and any comments we receive on this docket may be viewed at www.regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on foreign quarantine notices, contact Ms. Lecresha King, Program Analyst, National Preparedness and Incident Coordination, Strategy and Policy, VS, APHIS, 920 Main Campus Drive, Raleigh, NC 27606; email: FAD.PReP.Comments@usda.gov; phone: (515) 380-5535. For more detailed information on the information collection process, contact Mr. Joseph Moxey, APHIS' Paperwork Reduction Act Coordinator, at (301) 851-2533.

SUPPLEMENTARY INFORMATION:

Title: Control and Eradication of African Swine Fever; Conditions for Payment of Indemnity Claims.

OMB Control Number: 0579-0491.

Type of Request: Extension of approval of an information collection.

Abstract: Under the Animal Health Protection Act (7 U.S.C. 8301 et seq.), the Secretary of the U.S. Department of Agriculture (USDA) is authorized to protect the health of the livestock, poultry, and aquaculture populations in the United States by preventing the introduction and interstate spread of serious diseases and pests of livestock, poultry, and aquaculture, and for eradicating such diseases and pests from the United States, when feasible. Within the USDA, this authority and mission is delegated to the Animal and Plant Health Inspection Service (APHIS).

Part of the mission of the Veterinary Services (VS) business unit of APHIS is preventing foreign animal disease outbreaks in the United States, and monitoring, controlling, and eliminating a disease outbreak should one occur. In the past several years, there have been significant worldwide outbreaks of African swine fever (ASF). ASF is a highly contagious and deadly viral disease affecting both domestic and feral (wild) pigs. Herd mortality can reach 100 percent and animals contracting the disease can die in as little as a week, necessitating a rapid response. The disease is also highly resistant to the environment, meaning it can easily be spread by being on clothes, shoes, wheels, or other materials, or in pork products. If ASF entered the United States, it could halt U.S. pork exports, as trading partners would not accept products from a country with ASF; cut pork and hog prices by up to 50 percent; and cause widespread disruptions in hog and pork production.

The disease has not been detected in the United States; however, USDA is committed to working with State and industry partners to keep the virus out of the country. In the event of an ASF detection, USDA will declare an extraordinary emergency and establish an animal movement standstill to coordinate a national control and eradication approach. USDA will work with States and industry to depopulate infected premises, compensate affected owners, and institute herd plans.

To accomplish this, APHIS will implement various information collection activities related to an outbreak such as processing appraisal and indemnity requests and appraisal and indemnity claims, assisting with preparing worksheets for calculating proceeds from animals or materials sold for slaughter, approving domestic herd plans and financial plans, and administering an ASF response epidemiology questionnaire.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 4.882 hours per response.

Respondents: Agricultural producers, animal scientists and technicians, agricultural inspectors, and State animal health officials.

Estimated annual number of respondents: 40,050.

Estimated annual number of responses per respondent: 13.

Estimated annual number of responses: 519,950.

Estimated total annual burden on respondents: 2,538,300 hours. (Due to averaging, the total annual burden hours may not equal the product of the annual number of responses multiplied by the reporting burden per response.)

All responses to this notice will be summarized and included in the request for OMB approval. All comments will also become a matter of public record.

Done in Washington, DC, this 2nd day of May 2024.
Michael Watson,
Administrator, Animal and Plant Health Inspection Service.

[FR Doc. 2024-12139 Filed 6-3-24; 8:45 am]

BILLING CODE 3410-34-P